DEPARTMENT OF LABOR

Employment and Training Administration

[TA-W-40,417]

NTN-Bower Corporation, Hamilton, Alabama

Notice of Revised Determination on Remand

The United States Court of International Trade (USCIT) granted the Secretary of Labor's motion for voluntary remand for further investigation of the negative determination in Former Employees of NTN-Bower Corporation v. U.S. Secretary of Labor (Court No. 02-00315).

The Department's initial denial of the petition for employees of NTN-Bower Corporation, Hamilton, Alabama was issued on March 27, 2002. The decision was published on April 5, 2002 in the Federal Register (67 FR 16441). The denial was based on the fact that imports did not contribute importantly to worker separations at the subject firm. The petitioners did not request administrative reconsideration.

By letter dated April 25, 2002 to the U.S. Court of International Trade, petitioners requested judicial review. The Department requested, and was granted, a voluntary remand. On October 3, 2002, the Department issued a Notice of Negative Determination on Remand. The Notice was published in the Federal Register on October 22, 2002 (67 FR 64919). The denial was based on the fact that the major customer did not import tapered roller bearings during the relevant time period.

In the current voluntary remand investigation, the Department obtained new information and clarification from the company regarding the production process and company imports during the relevant time period.

The new information revealed that earlier in the relevant time period, the subject company made bearing forgings (component parts stamped out of steel plates), finished the forgings, and assembled the forgings into bearings; later in the relevant time period, the subject company had replaced bearing forging production with imported unfinished forgings, and then finished and assembled the bearings at NTN-Bower, Hamilton, Alabama. The subject worker group produced bearings and component parts, and are not separately identifiable by product line.

Conclusion

After careful review of the additional facts obtained on remand, I conclude that there were increased imports of articles like or directly competitive with those produced by the subject firm that contributed importantly to the worker separations and sales or production declines at the subject facility. In accordance with the provisions of the Trade Act, I make the following certification:

All workers of NTN-Bower Corporation, Hamilton, Alabama who became totally or partially separated from employment on or after October 18, 2000, through two years from the issuance of this revised determination, are eligible to apply for adjustment assistance under section 223 of the Trade Act of 1974.

Signed at Washington, DC this 25th day of February, 2004.
Elliott S. Kushner,
Certifying Officer, Division of Trade Adjustment Assistance.

[FR Doc. 04-4980 Filed 3-4-04; 8:45 am]

BILLING CODE 4510-30-P